FEDERAL COMMUNICATIONS COMMISSION

Public Information Collections Approved by Office of Management and Budget

October 17, 2005.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Paul J. Laurenzano, Federal Communications Commission, 445 12th Street, SW., Washington DC, 20554, (202) 418-1359 or via the Internet at plaurenz@fcc.gov.

SUPPLEMENTARY INFORMATION: OMB Control No.: 3060-0169.

OMB Approval date: August 24, 2005.

Expiration Date: August 31, 2008.

Title: Sections 43.51 and 43.53—Reports and Records of Communications Common Carriers and Affiliates.

Form No.: N/A.

Estimated Annual Burden: 374 responses; 6,029 total annual burden hours; approximately 83-101 hours average per respondent.

Needs and Uses: The Commission received an extension with no change for this information collection. Section 43.51 requires any communication common carrier described in paragraph (b) of this section must file with the Commission, within thirty (30) days of execution, a copy of each contract, agreement, concession, license, authorization, operating agreement or other arrangement to which it is a party and any amendments. In addition to other reporting requirements, this rule section also requires an annual reporting requirement, third party disclosure requirement and recordkeeping requirements. Section 43.53 requires each communication common carrier engaged directly in the transmission or reception of telegraph communications between the continental United States and any foreign country shall file a report with the Commission within thirty (30) days of the date of any arrangement concerning the division of the total telegraph charges on such communications other than transiting.

OMB Control No.: 3060-0793.

OMB Approval date: September 20, 2005.

Expiration Date: September 30, 2008.

Title: Federal-State Joint Board on Universal Service, CC Docket No. 96-45, Procedures for Self Certifying as a Rural Carrier.

Form No.: N/A.

Estimated Annual Burden: 10 responses; 10 total annual burden hours; 1 hour per respondent.

Needs and Uses: In the Tenth Report and Order, the Commission adopted proposals that carriers servicing study areas with fewer than 100,000 access lines that already have certified their rural status need not re-certify for purposes of receiving support beginning January 1, 2001 and need only file thereafter if their status changes. Further, carriers serving more than 100,000 access lines need to file rural certifications for their year 2001 status and thereafter only if their status has changed.

The Commission received an extension with no change to this information collection.

OMB Control No.: 3060-0515.

OMB Approval date: September 21, 2005.

Expiration Date: September 30, 2008.

Title: Section 43.21(c), Miscellaneous Common Carrier Annual Letter Filing Requirement.

Form No.: N/A.

Estimated Annual Burden: 38 responses; 38 total annual burden hours; 1 hour per respondent.

Needs and Uses: Section 43.21(c) requires each miscellaneous common carrier with operating revenues in excess of the indexed threshold as defined in 47 CFR 32.9000 for a calendar year to file with the Chief, Wireline Competition Bureau (formerly the Common Carrier Bureau) a letter showing its operating revenues for that year and the value of its total communications plant at the end of that year. The letter must be filed no later than April 1 of the following year. The information is used by FCC staff members to regulate and monitor the telephone industry and by the public to analyze the industry. The information on revenues and total plant is compiled and published in the Commission's annual common carrier statistical publication and trends in telephone service report.

The Commission received an extension with no change to this information collection.

Federal Communications Commission.
Marlene H. Dortch,
Secretary.

[FR Doc. 05-21405 Filed 10-25-05; 8:45 am]

BILLING CODE 6712-01-P